PENSION BENEFIT GUARANTY CORPORATION

29 CFR Part 4022

Benefits Payable in Terminated Single-Employer Plans; Interest Assumptions for Valuing and Paying Benefits

AGENCY: Pension Benefit Guaranty Corporation.

ACTION: Final rule; correction.

SUMMARY: The Pension Benefit Guaranty Corporation published in the Federal Register of April 15, 2009, a final rule informing the public of the interest rates and assumptions to be used under certain Pension Benefit Guaranty Corporation regulations. This document corrects an inadvertent error in that final rule.

DATES: Effective May 1, 2009.

FOR FURTHER INFORMATION CONTACT: Catherine B. Klion, Attorney, Legislative and Regulatory Department, Pension Benefit Guaranty Corporation, 1200 K Street, NW., Washington, DC 20005, 202-326-4024. (TTY/TDD users may call the Federal relay service toll-free at 1-800-877-8339 and ask to be connected to 202-326-4024.)

SUPPLEMENTARY INFORMATION: The Pension Benefit Guaranty Corporation published a document in the April 15, 2009, Federal Register (74 FR 17395), informing the public of the interest rates and assumptions to be used under certain Pension Benefit Guaranty Corporation regulations. This document corrects an inadvertent error in that final rule.

In FR Doc. E9-8674, published on April 15, 2009 (74 FR 17395), make the following corrections.

Appendix B to Part 4022—[Corrected]

1. On page 17396, in the table for Appendix B to Part 4022, under “Immediate annuity rate (percent)”, remove the figure “3.25”, and add, in its place, “3.50”.

Appendix C to Part 4022—[Corrected]

2. On page 17396, in the table for Appendix C to Part 4022, under “Immediate annuity rate (percent)”, remove the figure “3.25”, and add, in its place, “3.50”.

Issued in Washington, DC, on this 16th day of April 2009.
Vincent K. Snowbarger,
Acting Director, Pension Benefit Guaranty Corporation.

[FR Doc. E9-9212 Filed 4-21-09; 8:45 am]

BILLING CODE 7709-01-P